DEPARTMENT OF ENERGY

Federal Energy Regulatory Commission

Combined Notice of Filings #1

Take notice that the Commission received the following electric corporate filings:

Docket Numbers: EC26-28-000; EL26-24-000.

Applicants: PacifiCorp.

Description: Application for Authorization Under Section 203 of the Federal Power Act and Petition for Declaratory Order of PacifiCorp.

Filed Date: 11/7/25.

Accession Number: 20251107-5254.

Comment Date: 5 p.m. ET 12/8/25.

Docket Numbers: EC26-29-000.

Applicants: New Madrid Solar, LLC.

Description: Application for Authorization Under Section 203 of the Federal Power Act of New Madrid Solar, LLC.

Filed Date: 11/13/25.

Accession Number: 20251113-5107.

Comment Date: 5 p.m. ET 12/4/25.

Take notice that the Commission received the following exempt wholesale generator filings:

Docket Numbers: EG26-42-000.

Applicants: SR Georgetown, LLC.

Description: SR Georgetown, LLC submits Notice of Self-Certification of Exempt Wholesale Generator Status.

Filed Date: 11/12/25.

Accession Number: 20251112-5351.

Comment Date: 5 p.m. ET 12/3/25.

Docket Numbers: EG26-43-000.

Applicants: Armadillo Solar Center, LLC.

Description: Armadillo Solar Center, LLC submits Notice of Self-Certification of Exempt Wholesale Generator Status.

Filed Date: 11/13/25.

Accession Number: 20251113-5053.

Comment Date: 5 p.m. ET 12/4/25.

Docket Numbers: EG26-44-000.

Applicants: South River Phase II, LLC.

Description: South River Phase II, LLC submits Notice of Self-Certification of Exempt Wholesale Generator Status.

Filed Date: 11/13/25.

Accession Number: 20251113-5081.

Comment Date: 5 p.m. ET 12/4/25.

Take notice that the Commission received the following electric rate filings:

Docket Numbers: ER10-2564-014; ER10-2289-014; ER10-2600-014.

Applicants: UNS Electric, Inc., UniSource Energy Development Company, Tucson Electric Power Company.

Description: Supplement to 12/31/2024, Triennial Market Power Analysis for Southwest Region of Tucson Electric Power Company, et al.

Filed Date: 11/12/25.

Accession Number: 20251112-5405.

Comment Date: 5 p.m. ET 12/3/25.

Docket Numbers: ER12-1183-000.

Applicants: UGI Development Company.

Description: Refund Report: Refund report to 52 to be effective N/A.

Filed Date: 11/12/25.

Accession Number: 20251112-5356.

Comment Date: 5 p.m. ET 12/3/25.

Docket Numbers: ER12-1470-019; ER10-3026-017; ER16-1833-014.

Applicants: Sempra Gas & Power Marketing, LLC, Termoelectrica U.S., LLC, Energia Sierra Juarez U.S., LLC.

Description: Errata to 10/31/2025, Notice of Non-Material Change in Status of Energia Sierra Juarez U.S., LLC, et al.

Filed Date: 11/7/25.

Accession Number: 20251107-5255.

Comment Date: 5 p.m. ET 11/28/25.

Docket Numbers: ER18-649-002.

Applicants: Hunlock Energy, LLC.

Description: Refund Report: Refund report to 22 to be effective N/A.

Filed Date: 11/12/25.

Accession Number: 20251112-5354.

Comment Date: 5 p.m. ET 12/3/25.

Docket Numbers: ER23-629-005.

Applicants: Public Service Company of Colorado.

Description: Compliance filing: 2025-11-13—Attach N Compliance Filing to be effective 6/3/2023.

Filed Date: 11/13/25.

Accession Number: 20251113-5180.

Comment Date: 5 p.m. ET 12/4/25.

Docket Numbers: ER26-493-000.

Applicants: Gratiot County Wind II LLC.

Description: § 205(d) Rate Filing: Second Amended Co-Tenancy, and Shared Facilities Agreement to be effective 11/5/2025.

Filed Date: 11/12/25.

Accession Number: 20251112-5336.

Comment Date: 5 p.m. ET 12/3/25.

Docket Numbers: ER26-494-000.

Applicants: Puget Sound Energy, Inc.

Description: § 205(d) Rate Filing: Power Losses Update to be effective 12/10/2025.

Filed Date: 11/12/25.

Accession Number: 20251112-5341.

Comment Date: 5 p.m. ET 12/3/25.

Docket Numbers: ER26-495-000.

Applicants: Hunlock Creek Generating LLC.

Description: § 205(d) Rate Filing: Cancellation Reactive rates to be effective 9/23/2025.

Filed Date: 11/12/25.

Accession Number: 20251112-5352.

Comment Date: 5 p.m. ET 12/3/25.

Docket Numbers: ER26-496-000.

Applicants: Energy Prepay X, LLC.

Description: Initial Rate Filing: Baseline new to be effective 11/13/2025.

Filed Date: 11/12/25.

Accession Number: 20251112-5363.

Comment Date: 5 p.m. ET 12/3/25.

Docket Numbers: ER26-497-000.

Applicants: Portland General Electric Company.

Description: § 205(d) Rate Filing: PGE OATT Att M-1 and Att O Appendices Cleanup Filing to be effective 6/25/2025.

Filed Date: 11/13/25.

Accession Number: 20251113-5002.

Comment Date: 5 p.m. ET 12/4/25.

Docket Numbers: ER26-498-000.

Applicants: EDF Power Solutions, Inc.

Description: Request for Limited and Prospective Waiver, et al. of Byron Solar, LLC.

Filed Date: 11/12/25.

Accession Number: 20251112-5407.

Comment Date: 5 p.m. ET 12/3/25.

Docket Numbers: ER26-499-000.

Applicants: Southwest Power Pool, Inc.

Description: § 205(d) Rate Filing: Revisions to Attachment AE Regarding Notifications During Emergency Conditions to be effective 1/13/2026.

Filed Date: 11/13/25.

Accession Number: 20251113-5043.

Comment Date: 5 p.m. ET 12/4/25.

Docket Numbers: ER26-500-000.

Applicants: PJM Interconnection, L.L.C.

Description: § 205(d) Rate Filing: Amendment to GIA and CSA, SA Nos. 7468 & 7469; Project Identifier No. AE2-234 to be effective 1/13/2026.

Filed Date: 11/13/25.

Accession Number: 20251113-5054.

Comment Date: 5 p.m. ET 12/4/25.

Docket Numbers: ER26-501-000.

Applicants: Southwest Power Pool, Inc.

Description: Tariff Amendment: 2994 KMEA/Sunflower Facilities Construction Agr Cancellation to be effective 7/25/2017.

Filed Date: 11/13/25.

Accession Number: 20251113-5056.

Comment Date: 5 p.m. ET 12/4/25.

Docket Numbers: ER26-502-000.

Applicants: Southwest Power Pool, Inc.

Description: Tariff Amendment: 3247 AEM Wind/SPS Facilities Construction Agr Cancellation to be effective 11/4/2016.

Filed Date: 11/13/25.

Accession Number: 20251113-5057.

Comment Date: 5 p.m. ET 12/4/25.

Docket Numbers: ER26-503-000.

Applicants: Ameren Transmission Company of Illinois.

Description: § 205(d) Rate Filing: Filing of a Joint Use Agreement to be effective 1/13/2026.

Filed Date: 11/13/25.

Accession Number: 20251113-5063.

Comment Date: 5 p.m. ET 12/4/25.

Docket Numbers: ER26-504-000.

Applicants: PJM Interconnection, L.L.C.

Description: § 205(d) Rate Filing: Amendment to GIA, SA No. 7446; Project ID No. A18/AA1-043/AD2-035/AF2-030 to be effective 1/13/2026.

Filed Date: 11/13/25.

Accession Number: 20251113-5128.

Comment Date: 5 p.m. ET 12/4/25.

Docket Numbers: ER26-505-000.

Applicants: South River Phase II, LLC.

Description: § 205(d) Rate Filing: South River Phase II, LLC—Application for MBR Authority—Expedited Treatment to be effective 11/14/2025.

Filed Date: 11/13/25.

Accession Number: 20251113-5143.

Comment Date: 5 p.m. ET 12/4/25.

Docket Numbers: ER26-506-000.

Applicants: Idaho Power Company.

Description: § 205(d) Rate Filing: RS 183—Hemingway Substation Upgrades Construction Agreement to be effective 5/20/2025.

Filed Date: 11/13/25.

Accession Number: 20251113-5153.

Comment Date: 5 p.m. ET 12/4/25.

Docket Numbers: ER26-507-000.

Applicants: Public Service Company of Colorado.

Description: Tariff Amendment: 2025-11-13 PSC-Batch of Study Cancellations-NOCs to be effective 11/14/2025.

Filed Date: 11/13/25.

Accession Number: 20251113-5187.

Comment Date: 5 p.m. ET 12/4/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: November 13, 2025.
Carlos D. Clay,
Deputy Secretary.

[FR Doc. 2025-20190 Filed 11-17-25; 8:45 am]

BILLING CODE 6717-01-P